DEPARTMENT OF STATE

[Public Notice 5276]

60-Day Notice of Proposed Information Collection: Reconstruction and Stabilization Volunteer Application and Evaluation, OMB Control Number 1405-XXXX

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Reconstruction and Stabilization Volunteer Application and Evaluation.

• OMB Control Number: 1405-XXXX.

• Type of Request: New Collection.

• Originating Office: Office of the Coordinator for Reconstruction & Stabilization, S/CRS.

• Form Numbers: DS-4096 and SV-2005-0011.

• Respondents: Civilians who have past experience in Reconstruction & Stabilization (R & S) activities and/or wish to volunteer for additional R & S deployments.

• Estimated Number of Respondents: 2400 per year.

• Estimated Number of Responses: 2400 per year.

• Average Hours Per Response: 30 minutes.

• Total Estimated Burden: 1200 Hours.

• Frequency: On Occasion.

• Obligation to Respond: Voluntary.

DATES: The Department will accept comments from the public up to 60 days from January 20, 2006.

ADDRESSES: You may submit comments by any of the following methods:

• E-mail: StansellJW@state.gov.

• Mail (paper, disk, or CD-ROM submissions): Suite 7100, 2121 Virginia Avenue, NW., Washington, DC 20520

You must include the DS form number (if applicable), information collection title, and OMB control number in any correspondence.

FOR FURTHER INFORMATION CONTACT: Direct requests for additional information regarding the collection listed in this notice, including requests for copies of the proposed information collection and supporting documents, to James Stansell, Suite 7100, 2121 Virginia Ave., NW., Washington, DC 20520 who may be reached on (202) 663-0850 or at StansellJW@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The information collected is an important part of the Department's responsibility to coordinate U.S. Government planning, and institutionalize U.S. capacity, to help stabilize and reconstruct societies in transition from conflict or civil strife so they can reach a sustainable path toward peace, democracy and a market economy. The evaluation will be conducted in order to learn from the experiences of those who have been involved in reconstruction and stabilization activities. The application will be used to solicit volunteers who are willing to participate in future operations.

Methodology:

Respondents can access both information collection instruments via the S/CRS Web site (http://www.crs.state.gov), and will fill them out and submit them electronically.

Dated: November 8, 2005.
Marcia K. Wong,
Principal Deputy Coordinator, Office of the Coordinator for Reconstruction & Stabilization, Department of State.
Dated: November 8, 2005.
Christopher Hoh,
Director of Response Strategy & Resource Management, Office of the Coordinator for Reconstruction & Stabilization, Department of State.

[FR Doc. E6-632 Filed 1-19-06; 8:45 am]

BILLING CODE 4710-10-P